DEPARTMENT OF COMMERCE

International Trade Administration

[A-533-843]

Certain Lined Paper Products From India: Final Results of Antidumping Duty Administrative Review; 2015-2016

AGENCY: Enforcement and Compliance, International Trade Administration, Department of Commerce.

SUMMARY: The Department of Commerce (Commerce) determines that Navneet Education Ltd. (Navneet) made sales of certain lined paper products (CLPP) from India below normal value during the period of review (POR) September 1, 2015, through August 31, 2016, but SAB International (SAB) did not.

DATES: Applicable April 13, 2018.

FOR FURTHER INFORMATION CONTACT: Samuel Brummitt (for Navneet) and Cindy Robinson (for SAB), AD/CVD Operations, Office III, Enforcement and Compliance, International Trade Administration, U.S. Department of Commerce, 1401 Constitution Avenue NW, Washington DC 20230; telephone (202) 482-7851 or (202) 482-3797, respectively.

SUPPLEMENTARY INFORMATION:

Background

On October 6, 2017, Commerce published the Preliminary Results.¹ On November 6, 2017, the petitioners,² Navneet, and SAB timely submitted their case briefs.³ On November 6, 2017, the petitioner submitted a request for a hearing, which it subsequently withdrew on December 8, 2017.⁴ On November 13, 2017, the petitioners and Navneet timely submitted their respective rebuttal briefs.⁵ On January 19, 2018, Commerce postponed the final results by 60 days, until April 4, 2018.⁶

¹ See Certain Lined Paper Products from India: Preliminary Results of Antidumping Duty Administrative Review and Preliminary Determination of No Shipments; 2015-2016, 82 FR 46764 (October 6, 2017) (Preliminary Results), and accompanying Preliminary Decision Memorandum.

² The petitioners are the Association of American School Paper Suppliers and its individual members.

³ See the petitioners' letter titled, “Certain Lined Paper Products from India: Case Brief of the Association of American School Paper Suppliers,” dated November 6, 2017; see also Navneet's letter titled, “Certain Lined Paper Products from India: Case Brief of Navneet Education Limited,” dated November 6, 2017; see also SAB's letter titled, “Certain Lined Paper Products from India: SAB International Case Brief,” dated November 6, 2017.

⁴ See the petitioner's letter titled, “Certain Lined Paper Products from India: Request for Hearing,” dated November 6, 2017; see also Memorandum to the File titled, “Petitioner's Request for a Meeting in Lieu of a Hearing,” dated December 8, 2017.

⁵ See the petitioners' letter titled, “Certain Lined Paper Products from India: Rebuttal Brief of the Association of American School Paper Suppliers,” dated November 13, 2017; see also Navneet's letter titled, “Certain Lined Paper Products from India: Rebuttal Brief of Navneet Education Limited,” dated November 13, 2017.

⁶ See Memorandum titled “Certain Lined Paper Products from India: Extension of Time Limit for Final Results of Antidumping Duty Administrative Review,” dated January 19, 2018.

Commerce exercised its discretion to toll all deadlines affected by the closure of the Federal Government from January 20 through 22, 2018. The revised deadline for the final results of this review is now April 9, 2018.⁷

⁷ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding affected by the closure of the Federal Government, including the final results, have been extended by 3 days.

Scope of the Order

The merchandise covered by the order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description of the scope remains dispositive.⁸

⁸ For a complete description of the Scope of the Order, see Memorandum titled “Certain Lined Paper Products from India: Issues and Decision Memorandum for the Final Results of the Antidumping Duty Administrative Review; 2015-2016,” dated concurrently with and hereby adopted by this notice (“Issues and Decision Memorandum”).

Analysis of Comments Received

All issues raised in the case and rebuttal briefs by parties to this administrative review are addressed in the Issues and Decision Memorandum. A list of the issues that parties raised and to which we responded is attached to this notice as an Appendix. The Issues and Decision Memorandum is a public document and is on-file electronically via Enforcement and Compliance's Antidumping and Countervailing Duty Centralized Electronic Service System (ACCESS). ACCESS is available to registered users at https://access.trade.gov and in the Central Records Unit (CRU), room B8024 of the main Department of Commerce building. In addition, a complete version of the Issues and Decision Memorandum can be accessed directly on the internet at http://enforcement.trade.gov/frn/index.html. The signed Issues and Decision Memorandum and the electronic versions of the Issues and Decision Memorandum are identical in content.

Changes Since the Preliminary Results

Based on a review of the record and comments received from interested parties regarding our Preliminary Results, we made the following company-specific change to Navneet's final margin calculation: (1) We did not make a duty drawback adjustment for duties paid on imported input materials used to produce the subject merchandise; (2) we made certain revisions to Navneet's home market (HM) price to account for excise taxes and local body taxes; and (3) we made changes to Navneet's HM program by converting the variable PRIMEH to `1' to match the format used for the variable PRIMEU. As a result of these changes, we determine that Navneet made sales of subject merchandise below normal value during the POR and have calculated a final weighted-average dumping margin of 1.34 percent. We made no change to SAB's preliminary SAS margin program and, therefore, SAB's preliminary margin remains unchanged for these final results.

Final Results of the Review

As a result of this review, Commerce calculated the following dumping margins for Navneet and SAB. We are applying to the non-selected companies the rates calculated for the mandatory respondents in these final results, excluding any zero and de minimis margins, as referenced below.⁹

⁹ See Albemarle Corp. & Subsidiaries v. United States, 821 F.3d 1345, 1351-53 (Fed. Cir. 2016) (Albemarle).

Producer/exporter | Weighted- average dumping margin (percent)
Navneet Education Ltd | 1.34
SAB International | 0.00
Kokuyo Riddhi Paper Products Pvt. Ltd | 1.34
Magic International Pvt. Ltd | 1.34
Pioneer Stationery Pvt Ltd | 1.34
SGM Paper Products | 1.34
Super Impex | 1.34

Duty Assessment

Commerce shall determine and Customs and Border Protection (CBP) shall assess antidumping duties on all appropriate entries.¹⁰ Specifically, for Navneet and SAB, we will instruct CBP to liquidate their entries during the POR imported by the importers (or customers) identified in their questionnaire responses without regard to antidumping duties because their weighted-average dumping margins in these final results is zero.¹¹ In accordance with Commerce's practice, for entries of subject merchandise during the POR for which Navneet or SAB did not know that the merchandise was destined for the United States, we will instruct CBP to liquidate such entries at the all-others rate if there is no company-specific rate for the intermediate company(ies) involved in the transaction.¹² We intend to issue assessment instructions directly to CBP 15 days after publication of the final results of this review.

¹⁰ In these final results, Commerce applied the assessment rate calculation method adopted in Antidumping Proceedings: Calculation of the Weighted-Average Dumping Margin and Assessment Rate in Certain Antidumping Proceedings: Final Modification, 77 FR 8101 (February 14, 2012) (Final Modification for Reviews).

¹¹ Id., 77 FR at 8102.

¹² For a full discussion of this practice, see Antidumping and Countervailing Duty Proceedings: Assessment of Antidumping Duties, 68 FR 23954 (May 6, 2003).

Cash Deposit Requirements

The following cash deposit requirements will be effective upon publication of the notice of final results of administrative review for all shipments of subject merchandise entered, or withdrawn from warehouse, for consumption on or after the publication date of the final results of this administrative review, as provided by section 751(a)(2) of the Tariff Act of 1930, as amended (the Act): (1) The cash deposit rate for respondents noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the manufacturer is, the cash deposit rate will be the rate established for the most recently completed segment of this proceeding for the manufacturer of the subject merchandise; and (4) the cash deposit rate for all other manufacturers or exporters will continue to be 3.91 percent, the all-others rate established in the original antidumping duty investigation.¹³ These cash deposit requirements, when imposed, shall remain in effect until further notice.

¹³ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006).

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act and 19 CFR 351.213(h).

Dated: April 9, 2018.
Gary Taverman,
Deputy Assistant Secretary for Antidumping and Countervailing Duty Operations, performing the non-exclusive functions and duties of the Assistant Secretary for Enforcement and Compliance.

Appendix

List of Topics Discussed in the Final Decision Memorandum

I. Summary

II. List of Comments

III. Background

IV. Scope of the Order

V. Analysis of Comments

Comments Concerning Navneet

1. Whether Commerce Should Reclassify Navneet's Reported Levels of Trade

2. Whether Commerce Should Grant Navneet's Claimed Duty Drawback Adjustment

3. Whether Commerce Should Grant an Adjustment for Defective Product Claims Reported in the Other Rebates Field

4. Treatment of Navneet's Excise Expense and Local Body Tax in Home Market Price and Cost Calculation

5. Whether Commerce Should Correct the Miscoded PRIMEU Field

Comment Concerning SAB

6. Whether Certain Chain Stores Who May Be the Importer of Record Should Be Included in the Liquidation Instructions

VI. Recommendation

[FR Doc. 2018-07724 Filed 4-12-18; 8:45 am]

BILLING CODE 3510-DS-P